DEPARTMENT OF EDUCATION

[CFDA No.: 84.165A]

Magnet Schools Assistance Program; Notice Inviting Applications for New Awards for Fiscal Year (FY) 2001

Purpose of Program: The Magnet Schools Assistance Program (MSAP) provides grants to eligible local educational agencies and consortia of such agencies to support magnet schools that are part of approved desegregation plans.

Eligible Applicants: Local educational agencies (LEAs) and consortia of such agencies.

Applications Available: August 23, 2000.

Deadline for Transmittal of Applications: December 22, 2000.

Deadline for Intergovernmental Review: February 23, 2001.

Estimated Available Funds: $92,000,000.

The actual level of funding, if any, is contingent on final congressional action. However, we are inviting applications at this time to allow enough time to complete the grant process before the end of the Federal fiscal year (October 1, 2001), if Congress appropriates funds for this program.

Estimated Range of Awards: $200,000—$3,000,000 per year.

Estimated Average Size of Awards: $1,533,000 per year.

Estimated Number of Awards: 60.

Note: The Department is not bound by any estimates in this notice.

Project Period: Up to 36 months.

Applicable Regulations: (a) The Education Department General Administrative Regulations (EDGAR) in 34 CFR parts 75, 77, 79, 80, 81, 82, 85, 86, 97, 98, 99 and 299. (b) The regulations for this program in 34 CFR part 280.

Priorities: Under 34 CFR 75.105(c)(2)(i) and 34 CFR 280.32(b)-(f), we award up to an additional 45 points to an application, depending on how well the application meets the five priorities listed below. These points are in addition to any points the applicant earns under the selection criteria in 34 CFR 280.31.

Need for assistance. (5 points) The Secretary evaluates the applicant's need for assistance under this part, by considering—

(a) The costs of fully implementing the magnet schools project as proposed;

(b) The resources available to the applicant to carry out the project if funds under the program were not provided;

(c) The extent to which the costs of the project exceed the applicant's resources; and

(d) The difficulty of effectively carrying out the approved plan and the project for which assistance is sought, including consideration of how the design of the magnet school project—e.g., the type of program proposed, the location of the magnet school within the LEA—impacts on the applicant's ability to successfully carry out the approved plan.

New or revised magnet schools projects. (10 points) The Secretary determines the extent to which the applicant proposes to carry out new magnet schools projects or significantly revise existing magnet schools projects.

Selection of students. (15 points) The Secretary determines the extent to which the applicant proposes to select students to attend magnet schools by methods such as lottery, rather that through academic examination.

Innovative approaches and systemic reform. (10 points) The Secretary determines the extent to which the project for which assistance is sought proposes to implement innovative educational approaches that are consistent with the State's and LEA's systemic reform plans, if any, under Title III of Goals 2000: Educate America Act.

Collaborative efforts. (5 points) The Secretary determines the extent to which the project for which assistance is sought proposes to draw on comprehensive community involvement plans.

Additionally, the Secretary gives preference to applications that use a significant portion of the program funds to address substantial problems in an Empowerment Zone, including a Supplemental Empowerment Zone, or an Enterprise Community designated by the United States Department of Housing and Urban Development or the United States Department of Agriculture. Under 34 CFR 299.3 and 34 CFR 75.105(c)(2)(ii), the Secretary selects an application that meets this competitive priority over an application of comparable merit that does not meet this competitive priority.

Note: A list of areas that have been designated as Empowerment Zones and Enterprise Communities is published as an appendix to this notice.

The Secretary also invites applications that meet the following invitational priority. Projects that propose to help the LEA(s) improve one or more low-performing schools by:

• Selecting schools identified for school improvement or corrective action under Title I of the ESEA as magnet schools to be funded under this project;

• Maximizing the opportunity of students in low-performing schools to attend higher performing schools under the project for the reduction, elimination or prevention of minority group isolation;

• Effectively involving and informing parents about improvement goals for the MSAP schools as well as the goals for their own children; and

• Improving the quality of teaching and instruction in the low-performing schools to be funded under the project.

Under 34 CFR 75.105(c)(1) an application that meets the invitational priority does not receive a competitive or absolute preference over other applications.

SUPPLEMENTARY INFORMATION: Applicants must submit with their applications one of the following types of plans to establish eligibility to receive MSAP assistance: (1) A desegregation plan required by a court order; (2) a plan required by a State agency or an official of competent jurisdiction; (3) a plan required by the Office for Civil Rights (OCR), United States Department of Education (ED), under Title VI of the Civil Rights Act of 1964 (Title VI plan); or (4) a voluntary plan adopted by the applicant.

Under the MSAP program regulations, applicants are required to provide all of the information required at § 280.20(a)-(g) in order to satisfy the civil rights eligibility requirements found in § 280.2(a)(2) and (b) of the regulations. This section of the notice describes those information requirements.

In addition to the particular data and other items for required and voluntary plans, described separately in the information that follows, an application must include:

• Signed civil rights assurances (included in the application package);

• A copy of the applicant's plan; and

• An assurance that the plan is being implemented or will be implemented if the application is funded.

Required Plans

1. Plans Required By a Court Order

An applicant that submits a plan required by a court must submit complete and signed copies of all court or State documents demonstrating that the magnet schools are a part of the approved plan. Examples of the types of documents that would meet this requirement include—

• A Federal or State court order that establishes or amends a previous order or orders by establishing additional or different specific magnet schools;

• A Federal or State court order that requires or approves the establishment of one or more unspecified magnet schools or that authorizes the inclusion of magnet schools at the discretion of the applicant.

2. Plans Required By a State Agency or Official of Competent Jurisdiction

An applicant submitting a plan ordered by a State agency or official of competent jurisdiction must provide documentation that shows that the plan was ordered based upon a determination that State law was violated. In the absence of this documentation, the applicant should consider its plan to be a voluntary plan and submit the data and information necessary for voluntary plans.

3. Title VI Required Plans

An applicant that submits a plan required by OCR under Title VI must submit a complete copy of the plan demonstrating that magnet schools are part of the approved plan.

4. Modifications to Required Plans

A previously approved desegregation plan that does not include the magnet school or program for which the applicant is now seeking assistance must be modified to include the magnet school component. The modification to the plan must be approved by the court, agency, or official that originally approved the plan. An applicant that wishes to modify a previously approved OCR Title VI plan to include different or additional magnet schools must submit the proposed modification for review and approval to the OCR Regional Office that approved its original plan.

An applicant should indicate in its application if it is seeking to modify its previously approved plan. However, all applicants must submit proof to ED of approval of all modifications to their plans by January 26, 2001.

Voluntary Plans

A voluntary plan must be approved by ED each time an application is submitted for funding. Even if we have approved a voluntary plan in an LEA in the past, the plan must be resubmitted to us for approval as part of the application.

An applicant submitting a voluntary plan must include in its application:

• A copy of a school board resolution or other evidence of final official action adopting and implementing the plan, or agreeing to adopt and implement the plan upon the award of assistance.

• Enrollment and other information as required by the regulations at § 280.20(f) and (g) for applicants with voluntary plans. Enrollment data and information are critical to our determination of an applicant's eligibility under a voluntary plan.

Narrow Tailoring

The purposes of the MSAP include the reduction, elimination or prevention of minority group isolation. In many instances, in order to carry out these purposes, districts take race into account in assigning students to magnet schools. In order to meet the requirements of Title VI of the Civil Rights Act of 1964 and the Fourteenth Amendment to the United States Constitution, applicants submitting voluntary plans that involve the use of race in decision making must ensure that the use of race satisfies strict scrutiny. That is, the use of race must be narrowly tailored to achieve the compelling interest in reducing, eliminating or preventing minority group isolation.

In order for us to make a determination that a voluntary plan involving a racial classification is adequate under Title VI the plan must be narrowly tailored. Among the considerations that affect a determination of whether the use of race in a voluntary plan is narrowly tailored are (1) whether the district tried or seriously considered race-neutral alternatives and determined that such measures have not been or would not be similarly effective, before resorting to race-conscious action; (2) the scope and flexibility of the use of race, including whether it is subject to a waiver; (3) the manner in which race is used, that is, whether race determines eligibility for a program or whether race is just one factor in the decision making process; (4) the duration of the use of race and whether it is subject to periodic review; and (5) the degree and type of burden imposed on students of other races.

Each of the considerations set out above should be specifically considered in framing a district's strategy. Some examples follow, although it must be recognized that the legal standards in this area are continuing to develop.

Race-Neutral Means

Before resorting to race-conscious action, school districts must try or seriously consider race-neutral alternatives and determine that they have not been or would not be similarly effective. One example of a race-neutral approach for applicants proposing to conduct a lottery for student admission to a magnet school would be to strengthen efforts to recruit a large pool of eligible students for the lottery that reflects the diverse racial and ethnic composition of the students in the applicant's district. If recruitment efforts are successful, the lottery should result in a racially and ethnically diverse student body.

It may be possible to broaden the appeal of a given magnet school by aggressively publicizing it, making application to it as easy as possible, and broadening the geographic area from which the school is intended to draw.

Use of Racial Criteria in Admissions

It may be permissible to establish a procedure whereby race is taken into account in admissions only if race-neutral steps are considered and a determination is made that they would not prove similarly effective. Racial caps are the most difficult use of race to justify under a narrow tailoring analysis.

The decision to consider race in admission decisions should be made on a school-by-school basis.

Scope and Flexibility

Over time, the enrollment at a magnet school may become stable and the school may attract a diverse group of students. At this point, use of race as a factor in admissions may no longer be necessary.

In some instances, exceptions to the use of race in admissions—where a relatively small number of students are adversely affected and their admission will not substantially affect the racial composition of the program—should be available.

Duration of the Program and Reexamination of the Use of Criteria

The school or school district should formally review the steps it has taken which involve the use of race on a regular basis, such as on an annual basis, to determine whether the use of race is still needed, or should be modified.

Effect on Students of Other Races

Where there are a number of magnet schools, it may also be possible to assign students to a comparable magnet school, if they are unable to gain admission to their first preference.

Enrollment and Other Information

A voluntary plan is a plan to reduce, eliminate, or prevent minority group isolation (MGI), either at a magnet school or at a feeder school—a school from which students are drawn to attend the magnet school. Under § 280.2, the establishment of the magnet school cannot result in an increase in MGI at a magnet school or any feeder school above the districtwide percentage of minority group students at the grade levels served by the magnet school.

The following example and those in subsequent sections of this notice are designed to assist applicants in the preparation of their application. The examples illustrate the types of data and information that have proven successful in the past for satisfying the voluntary plan regulation requirements.

District A has a districtwide percentage of 65.5 percent for its minority student population in elementary schools. District A has six elementary schools with the following minority student populations:

1. School A—67 percent.

2. School B—58 percent.

3. School C—64 percent.

4. School D—76 percent.

5. School E—47 percent.

6. School F—81 percent.

District A has five minority group isolated schools, i.e., five schools with minority student enrollment of over 50 percent. District A seeks funding to establish a magnet program at School F to reduce MGI at that school. For District A to be eligible for a grant, the establishment of the magnet program at School F should not increase the minority student enrollment at feeder school C to more than 65.5 percent (the districtwide percentage). Also, the establishment of the magnet program should not increase the minority student enrollment at feeder schools A or D at all because those schools are already above the districtwide percentage for minority students. If projected enrollments at a magnet or feeder school indicate that there will be an increase in MGI, District A should provide an explanation in its application for the increase that shows it is not caused by the establishment of the magnet program. See the discussion below.

An applicant that proposes to establish new magnet schools must submit projected data for each magnet and feeder school that show that the magnet schools and all feeders will maintain eligibility for the entire three-year period of the grant. Projected data are included in the examples below.

Objective: Reduction of Minority Group Isolation in Existing Magnet Schools

In situations where the applicant intends to reduce minority isolation in an existing magnet program, whether in the magnet school or in one or more of the feeder schools, and minority isolation has increased, the applicant must provide data and information to demonstrate that the increase was not due to the applicant's magnet program, in accordance with § 280.20(g). See the following examples.

Options for Demonstrating Reduction

1. Magnet School Analysis

District Z has two existing magnet elementary schools. All of the other schools in the district are feeder schools to one or both of the magnet schools. District Z has six feeder schools and a districtwide minority enrollment of 60.0 percent at the elementary school level.

District Z Base Year Data for Magnet Schools
Magnet school (base year) | Total enrollment | Minority number | Minority percentage | Non- minority number | Non- minority percentage
Adams (1999) | 449 | 382 | 85.1 | 67 | 14.9
Edison (1999) | 387 | 306 | 79.1 | 81 | 20.9
Note: “Base Year” is the year prior to the year each school became a magnet.

District Z Current Year Data for Magnet Schools
Magnet school (base year) | Total enrollment | Minority number | Minority percentage | Non- minority number | Non- minority percentage
Adams | 459 | 365 | 79.5 | 94 | 20.5
Edison | 400 | 326 | 81.5 | 74 | 18.5

Since becoming a magnet school last year, Adams has decreased in MGI from 85.1 percent to 79.5 percent and the district projects that through operation as a magnet school MGI will continue to be reduced over the next three years. At Edison, the district projects that MGI will be reduced over the next three years through its operation as a magnet even though MGI increased 2.4 percent, from 79.1 percent to 81.5 percent since the school first became a magnet. Because of the increase, this school would be found ineligible unless the increase in MGI in the current year was not caused by the magnet school. This may be shown through data indicating an increase either in minority enrollment districtwide or in the area served by the magnet school.

If District Z's districtwide elementary school enrollment has become more minority isolated due to districtwide demographic changes in the student population and if a magnet or a feeder school's increase in MGI is less than the districtwide increase in MGI, ED will conclude that the school's increase in MGI was not the result of the magnet programs, but due to the overall effect of demographic changes in the district as a whole at the elementary level.

District Z Base Year Data for Feeder Schools
Feeder school | Total enrollment | Minority number | Minority percentage | Non- minority number | Non- minority percentage
Rose | 398 | 301 | 75.6 | 97 | 24.4
Rocky Mt | 289 | 199 | 68.9 | 90 | 31.1
Wheeler | 239 | 144 | 60.3 | 95 | 39.7
King | 289 | 144 | 49.8 | 145 | 50.2
Tinker | 429 | 173 | 40.3 | 256 | 59.7
Holly | 481 | 122 | 25.4 | 359 | 74.6
District-wide | 2,961 | 1,771 | 59.8 | 1,190 | 40.2

District Z Current Year Data for Feeder Schools
Feeder school | Total enrollment | Minority number | Minority percentage | Non- minority number | Non- minority percentage
Rose | 401 | 278 | 69.3 | 123 | 30.7
Rocky Mt | 291 | 211 | 72.5 | 80 | 27.5
Wheeler | 251 | 153 | 61.0 | 98 | 39.0
King | 277 | 149 | 53.8 | 128 | 46.2
Tinker | 424 | 198 | 46.7 | 226 | 53.3
Holly | 475 | 130 | 27.4 | 345 | 72.6
District-wide | 2,978 | 1,810 | 60.8 | 1,168 | 39.2

District Z Projected 2001-2002 Data for Magnet Schools
Magnet school | Total enrollment | Minority number | Minority percentage | Non- minority number | Non- minority percentage
Adams | 469 | 349 | 74.4 | 120 | 25.6
Edison | 410 | 312 | 76.1 | 98 | 23.9

District Z Projected 2002-2003 Data for Magnet Schools
Magnet school | Total enrollment | Minority number | Minority percentage | Non- minority number | Non- minority percentage
Adams | 483 | 331 | 68.5 | 152 | 31.5
Edison | 407 | 289 | 71.0 | 118 | 29.0

District Z Projected 2003-2004 Data for Magnet Schools
Magnet school | Total enrollment | Minority number | Minority percentage | Non- minority number | Non- minority percentage
Adams | 489 | 307 | 62.8 | 182 | 37.2
Edison | 409 | 266 | 65.0 | 143 | 35.0

District Z Projected 2001-2002 Data for Feeder Schools
Feeder school | Total enrollment | Minority number | Minority percentage | Non- minority number | Non- minority percentage
Rose | 400 | 272 | 68.0 | 128 | 32.0
Rocky Mt | 306 | 216 | 70.6 | 90 | 29.4
Wheeler | 250 | 148 | 59.2 | 102 | 40.8
King | 280 | 151 | 53.9 | 129 | 46.1
Tinker | 417 | 232 | 55.6 | 185 | 44.4
Holly | 447 | 170 | 38.0 | 277 | 62.0
District-wide | 2,979 | 1,850 | 62.1 | 1,129 | 37.9

District Z Projected 2002-2003 Data for Feeder Schools
Feeder school | Total enrollment | Minority number | Minority percentage | Non- minority number | Non- minority percentage
Rose | 396 | 265 | 66.9 | 131 | 33.1
Rocky Mt | 293 | 202 | 68.9 | 91 | 31.1
Wheeler | 259 | 153 | 59.1 | 106 | 40.9
King | 291 | 169 | 58.1 | 122 | 41.9
Tinker | 418 | 242 | 57.9 | 176 | 42.1
Holly | 451 | 216 | 47.9 | 235 | 52.1
District-wide | 2,998 | 1,867 | 62.3 | 1,131 | 37.7

District Z Projected 2003-2004 Data for Feeder Schools
Feeder school | Total enrollment | Minority number | Minority percentage | Non- minority number | Non- minority percentage
Rose | 400 | 267 | 66.8 | 133 | 33.2
Rocky Mount | 299 | 204 | 68.2 | 95 | 31.8
Wheeler | 262 | 154 | 58.8 | 108 | 41.2
King | 302 | 181 | 59.9 | 121 | 40.1
Tinker | 419 | 244 | 58.2 | 175 | 41.8
Holly | 441 | 227 | 51.5 | 214 | 48.5
District-wide | 3,021 | 1,850 | 61.2 | 1,171 | 38.8

However, as with the Edison magnet, if the MGI in a magnet increases above the districtwide increase between the base year and the current year, an applicant must demonstrate that the magnet is not causing the problem. In order to show that the increase in MGI at a particular school is not the result of the operation of a magnet, a district should provide student transfer data on the number of minority and non-minority students who attend the magnet program from the other feeder schools in the district for the current year. If, by subtracting from the magnet enrollment those students who came from other schools, the MGI is higher than the actual MGI for the current year, it can be concluded that the increase in MGI was not caused by the magnet school.

Current Year Student Transfer Data for Magnet Schools That Increase in Minority Group Isolation Above the Districtwide Average
| Total enrollment | Minority number | Minority percentage | Non-minority number | Non-minority percentage
Edison (2000) | 400 | 326 | 81.5 | 74 | 18.5
Students who transferred from feeder schools to Edison in order to attend magnet | 50 | 31 |  | 19 |
Edison enrollment with transfer students “returned” to feeder schools | 350 | 295 | 84.3 | 55 | 15.7

Current Year Student Transfer Data for Feeder Schools That Increase in Minority Group Isolation Above the Districtwide Average
| Total enrollment | Minority number | Minority percentage | Non-minority number | Non-minority percentage
Rocky Mount (2000) | 291 | 211 | 72.5 | 80 | 27.5
Students who transferred to Edison to attend magnet | 10 | 8 |  | 2 |
Students who transferred to Adams to attend magnet | 6 | 6 |  | 0 |
Rocky Mount enrollment if transfer students were “returned” | 307 | 225 | 73.3 | 82 | 26.7

2. Feeder School Analysis

In District Z, two feeder schools whose MGI was greater than the districtwide average, Rocky Mount and Wheeler, increased in MGI by 3.7 percent and 0.7 percent respectively between the base year and the current year. Since Wheeler's MGI increase of 0.7 percent is less than the districtwide MGI increase of 1.0 percent for the same time period, Wheeler's MGI increase would be considered to be due to the demographic changes in the district and further scrutiny of Wheeler is not required.

Because Rocky Mount, a feeder school to magnet programs at Adams and Edison, increased in MGI over the districtwide average from 68.9 percent to 72.5 percent, this would make both Adams and Edison ineligible unless the district demonstrates that the increase was not because of the magnet programs. The clearest way for an applicant to show this is to provide student transfer data on the number of minority and non-minority students who left Rocky Mount to attend magnet programs at Adams and Edison. (See student transfer data above.) By adding the number of students who transferred to the magnet programs to Rocky Mount's total enrollment, ED can determine whether the increase was due to the magnet program. If it can be demonstrated that without the magnet program, the MGI at the feeder school would be even higher, these magnet schools would be found eligible.

Some applicants may find that they are unable to provide the type of student transfer data referred to above. In some cases, these applicants may be able to present demographic or other statistical data and information that would satisfy the requirements of the statute and regulations. This demographic data must persuasively demonstrate that the operation of a proposed magnet school would reduce, eliminate, or prevent minority group isolation in the applicant's magnet schools and would not result in an increase of MGI at one of the applicant's feeder schools above the districtwide percentage for minority students at the same grade levels as those served in the magnet school. (34 CFR § 280.20(g)). For example, an applicant might include data provided to it by a local social service agency about the numbers and concentration of families in a recent influx of immigrants into the neighborhood or attendance zone of the feeder school.

3. Additional Base-Year Data

If an applicant believes that comparing a magnet program's current-year enrollment data with its base year enrollment data (i.e., data from the year prior to the year each school became a magnet or a feeder) is misleading due to significant changes that have occurred in attendance zones or other factors affecting the magnet school or in the closing and combining of other schools with the magnet school, additional and more recent enrollment data for an alternative to the base year may be submitted along with a justification for its submission.

Objective: Conversion of an Existing School to a New Magnet Program

District X will convert Williams, an existing elementary school, to a new elementary magnet program. Currently, Williams has a minority enrollment of 94.67 percent. The district projects that the magnet program will reduce minority group isolation at Williams to 89 percent in the first year of the project. The projection of enrollment should be based upon reasonable assumptions and should clearly state the basis for these assumptions, e.g., parent or student interest surveys, or other objective indicators, such as waiting lists for other magnet schools in the district.

District X Current Year Data for Magnet & Feeder Schools
School | Total enrollment | Minority number | Minority percentage | Non- minority number | Non- minority percentage
Hill (Magnet) | 450 | 426 | 94.7 | 24 | 5.3
Shaw (Feeder) | 398 | 179 | 44.9 | 219 | 55.1
Smith (Feeder) | 477 | 186 | 39.0 | 291 | 61.0
District-wide | 4,704 | 2,598 | 55.2 | 2,106 | 44.8

District X Projected 2001-2002 Data for Magnet & Feeder Schools
School | Total enrollment | Minority number | Minority percentage | Non- minority number | Non- minority percentage
Hill (Magnet) | 450 | 400 | 89.0 | 50 | 11.0
Shaw (Feeder) | 404 | 195 | 48.3 | 209 | 51.7
Smith (Feeder) | 471 | 191 | 40.5 | 280 | 59.5
District-wide | 4,712 | 2,622 | 55.6 | 2,090 | 44.4

District X Projected 2002-2003 Data for Magnet & Feeder Schools
School | Total enrollment | Minority number | Minority percentage | Non- minority number | Non- minority percentage
Hill (Magnet) | 500 | 415 | 83.0 | 85 | 17.0
Shaw (Feeder) | 406 | 203 | 50.0 | 203 | 50.0
Smith (Feeder) | 482 | 205 | 42.5 | 277 | 57.5
District-wide | 4,794 | 2,683 | 55.9 | 2,111 | 44.1

District X Projected 2003-2004 Data for Magnet & Feeder Schools
School | Total enrollment | Minority number | Minority percentage | Non- minority number | Non- minority percentage
Hill (Magnet) | 600 | 450 | 75.0 | 150 | 25.0
Shaw (Feeder) | 410 | 215 | 52.4 | 195 | 47.6
Smith (Feeder) | 477 | 229 | 48.0 | 248 | 52.0
District-wide | 4,815 | 2,690 | 55.9 | 2,125 | 44.1

Objective: Construction of New Magnet School/Reopening a Closed School

District Y will construct a new school, Ashe, and open its magnet program at the beginning of the 2002-2003 school year. There is no pre-existing school, and consequently, it appears that no enrollment data are readily available to use as a comparison. However, the district estimates that if the proposed magnet school had opened as a “neighborhood school,” without a magnet program designed to attract students from outside the “neighborhood” or attendance zone, it would have a minority enrollment of 67 percent. This estimate was based on national census tract data, supplemented by more current data on the neighborhood provided by the local county government. The district further reasonably anticipates, based on surveys and other indicators, that when the new school opens as a magnet school in 2002, it will have a minority enrollment of 58 percent.

Note that in this example, since the school will not open until the second year of the project (the 2002-2003 school year), data are needed only for the current year and each of the two years of the project during which the magnet at Ashe will be implemented.

District Y Current Year Data for Magnet and Feeder Schools
School | Total enrollment | Minority number | Minority percentage | Non-minority number | Non-minority percentage
Ashe (Magnet) | 600 | 400 | 66.7 | 300 | 33.3
Mason (Feeder) | 298 | 101 | 33.9 | 197 | 66.1
Vine (Feeder) | 324 | 111 | 34.2 | 213 | 65.8
Districtwide | 2,511 | 1,339 | 53.3 | 1,172 | 46.7

District Y Projected 2002-2003 Data for Magnet and Feeder Schools
School | Total enrollment | Minority number | Minority percentage | Non-minority number | Non-minority percentage
Ashe (Magnet) | 600 | 348 | 58.0 | 252 | 42.0
Mason (Feeder) | 290 | 133 | 45.8 | 157 | 54.2
Vine (Feeder) | 332 | 144 | 43.4 | 188 | 56.6
Districtwide | 2,559 | 1,352 | 52.8 | 1,207 | 47.2

District Y Projected 2003-2004 Data for Magnet and Feeder Schools
School | Total enrollment | Minority number | Minority percentage | Non-minority number | Non-minority percentage
Ashe (Magnet) | 600 | 300 | 50.0 | 300 | 50.0
Mason (Feeder) | 300 | 145 | 48.3 | 155 | 52.7
Vine (Feeder) | 336 | 170 | 50.6 | 166 | 49.4
Districtwide | 2,604 | 1,383 | 56.2 | 1,221 | 43.8

Objective: Reduction, Elimination, or Prevention of MGI at Targeted Feeder Schools

Many applicants apply for MSAP funding to reduce, eliminate, or prevent minority group isolation at a magnet school. However, some applicants have established magnet programs at schools that are not minority-isolated for the purpose of reducing, eliminating, or preventing minority isolation at one or more targeted feeder schools. The data requirements and analysis for this type of magnet program are the same as described for “Existing Magnet Schools.” In this example, MGI is being reduced in each of the targeted feeder schools.

Base Year Data for Magnet and Feeder Schools
School | Total enrollment | Minority number | Minority percentage | Non-minority number | Non-minority percentage
Grant (Magnet) | 505 | 62 | 12.3 | 443 | 87.7
North (Feeder) | 449 | 347 | 77.3 | 102 | 22.7
Lewis (Feeder) | 404 | 355 | 87.9 | 49 | 12.1
Clark (Feeder) | 471 | 459 | 97.5 | 12 | 2.5
Districtwide | 1,829 | 1,223 | 66.9 | 606 | 33.1

Current Year Data for Magnet and Feeder Schools
School | Total enrollment | Minority number | Minority percentage | Non-minority number | Non-minority percentage
Grant (Magnet) | 520 | 105 | 20.2 | 415 | 79.8
North (Feeder) | 453 | 338 | 74.6 | 115 | 25.4
Lewis (Feeder) | 398 | 335 | 84.1 | 63 | 15.9
Clark (Feeder) | 477 | 443 | 92.9 | 34 | 7.1
Districtwide | 1,848 | 1,221 | 66.1 | 627 | 33.9

Projected 2001-2002 Data for Magnet and Feeder Schools
School | Total enrollment | Minority number | Minority percentage | Non-minority number | Non-minority percentage
Grant (Magnet) | 526 | 139 | 26.5 | 387 | 73.5
North (Feeder) | 461 | 331 | 71.9 | 130 | 28.1
Lewis (Feeder) | 424 | 347 | 81.8 | 77 | 18.2
Clark (Feeder) | 499 | 427 | 85.5 | 72 | 14.5
District-wide | 1,910 | 1,244 | 65.1 | 664 | 34.9

Projected 2002-2003 Data for Magnet and Feeder Schools
School | Total enrollment | Minority number | Minority percentage | Non-minority number | Non-minority percentage
Grant (Magnet) | 532 | 200 | 37.5 | 332 | 62.5
North (Feeder) | 480 | 329 | 70.0 | 141 | 30.0
Lewis (Feeder) | 445 | 344 | 77.2 | 101 | 22.8
Clark (Feeder) | 528 | 425 | 80.4 | 103 | 19.6
District-wide | 1,975 | 1,298 | 65.7 | 677 | 34.3

Projected 2003-2004 Data for Magnet and Feeder Schools
School | Total enrollment | Minority number | Minority percentage | Non-minority number | Non-minority percentage
Grant (Magnet) | 548 | 263 | 48.0 | 285 | 52.0
North (Feeder) | 475 | 316 | 66.5 | 159 | 33.5
Lewis (Feeder) | 460 | 342 | 74.4 | 118 | 25.6
Clark (Feeder) | 536 | 402 | 75.0 | 134 | 25.0
Districtwide | 2,019 | 1,323 | 65.5 | 696 | 44.1

Objective: Prevention of Minority Group Isolation

An applicant that applies for MSAP funding for the purposes of preventing minority isolation must demonstrate that without the intervention of the magnet program, the magnet school or targeted feeder school will become minority-isolated within the project period. Generally this may be documented by showing a trend in the enrollment data for the proposed school. For example, if a neighborhood school currently has a 45 percent minority enrollment and, for the last three years, minority enrollment has increased an average of three percent each year (36 percent, 39 percent, and 42 percent), it is reasonable to expect that, in three years, the school would exceed 50 percent thereby becoming minority-isolated during the project period without the intervention of a magnet. The applicant in this example should submit this enrollment data in its application.

The preceding examples are not intended to be an exhaustive set of examples. Applicants with questions about their desegregation plans and the information required in support of those desegregation plans (including applicants that find that these examples do not fit their circumstances and applicants that find that the enrollment data requested are unavailable or do not reflect accurately the effectiveness of their proposed magnet program) are encouraged to contact ED for technical assistance, prior to submitting their application by calling the contact person listed under the FOR FURTHER INFORMATION CONTACT heading.

For Applications Contact: Education Publications Center (ED Pubs), P.O. Box 1398, Jessup, MD 20749-1398. Telephone (toll free): 1-877-576-7827. FAX: (301) 470-1244. If you use a telecommunications device for the deaf (TDD), you may call (toll free): 1-877-576-7734.

You may also contact ED Pubs at its Web site: http://www.ed.gov/pubs/edpubs.html, or you may contact ED Pubs at its e-mail address: Edpubs@inet.ed.gov

If you request an application from ED Pubs, be sure to identify this competition as follows: CFDA number 84.165A.

FOR FURTHER INFORMATION CONTACT: Steven L. Brockhouse, U.S. Department of Education, 400 Maryland Avenue, SW., Room 3E112, Washington, DC 20202-6140. Telephone (202) 260-2476, or via Internet: OESE_MSAP@ed.gov

Individuals with disabilities may obtain this document in an alternate format (e.g., Braille, large print, audiotape, or computer diskette) on request to the program contact person listed in this section.

Individuals with disabilities may obtain a copy of the application package in an alternate format by contacting ED Pubs. However, the Department is not able to reproduce in an alternate format the standard forms included in the application package.

Electronic Access to This Document

Anyone may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free at 1-888-293-6498; or in the Washington, DC area at (202) 512-1530.

Note: The official version of a document is the document published in the Federal Register. Free Internet access to the official edition of the Federal Register and the Code of Federal Regulations is available on GPO Access at: http://www.access.gpo.gov/nara/index.html

Program Authority: 20 U.S.C. 3021-3032.

Dated: July 24, 2000.
Michael Cohen,
Assistant Secretary, Elementary and Secondary Education.

Appendix—Empowerment Zones and Enterprise Communities

EMPOWERMENT ZONES AND ENTERPRISE COMMUNITIES

Empowerment Zones

California: Los Angeles

California: Oakland

Georgia: Atlanta

Illinois: Chicago

Kentucky: Kentucky Highlands*

Maryland: Baltimore

Massachusetts: Boston

Michigan: Detroit

Mississippi: Mid Delta*

Missouri/Kansas: Kansas City, Kansas City

New York: Harlem, Bronx

Ohio: Cleveland

Pennsylvania/New Jersey: Philadelphia, Camden

Texas: Houston

Texas: Rio Grande Valley*

Enterprise Communities

Alabama: Birmingham

Alabama: Chambers County*

Alabama: Greene, Sumter Counties*

Arizona: Phoenix

Arizona: Arizona Border*

Arkansas: East Central*

Arkansas: Mississippi County*

Arkansas: Pulaski County

California: Imperial County*

Michigan: Five Cap*

Michigan: Flint

Michigan: Muskegon

Minnesota: Minneapolis

Minnesota: St. Paul

Mississippi: Jackson

Mississippi: North Delta*

Missouri: East Prairie*

Missouri: St. Louis

Nebraska: Omaha

Nevada: Clarke County, Las Vegas

New Hampshire: Manchester

New Jersey: Newark

New Mexico: Albuquerque

New Mexico: Mora, Rio Arriba, Taos

California: L.A., Huntington Park

California: San Diego

California: San Francisco, Bayview, Hunter's Point

California: Watsonville*

Colorado: Denver

Connecticut: Bridgeport

Connecticut: New Haven

Delaware: Wilmington

District of Columbia: Washington

Florida: Jackson County*

Florida: Tampa

Florida: Miami, Dade County

Georgia: Albany

Georgia: Central Savannah*

Georgia: Crisp, Dooley Counties*

Illinois: East St. Louis

Illinois: Springfield

Indiana: Indianapolis

Iowa: Des Moines

Kentucky: Louisville

Louisiana: Northeast Delta*

Louisiana: Macon Ridge*

Louisiana: New Orleans

Louisiana: Ouachita Parish

Massachusetts: Lowell

Massachusetts: Springfield Counties*

New York: Albany, Schenectady, Troy

New York: Buffalo

New York: Newburgh, Kingston

New York: Rochester

North Carolina: Charlotte

North Carolina: Halifax, Edgecombe, Wilson Counties*

North Carolina: Robeson County*

Ohio: Akron

Ohio: Columbus

Ohio: Greater Portsmouth*

Oklahoma: Choctaw, McCurtain Counties*

Oklahoma: Oklahoma City

Oregon: Josephine*

Oregon: Portland

Pennsylvania: Harrisburg

Pennsylvania: Lock Haven*

Pennsylvania: Pittsburgh

Rhode Island: Providence

South Dakota: Deadle, Spink Counties*

South Carolina: Charleston

South Carolina: Williamsburg County*

Tennessee: Fayette, Haywood Counties*

Tennessee: Memphis

Tennessee: Nashville

Tennessee/Kentucky: Scott, McCreary Counties*

Texas: Dallas

Texas: El Paso

Texas: San Antonio

Texas: Waco

Utah: Ogden

Vermont: Burlington

Virginia: Accomack*

Virginia: Norfolk

Washington: Lower Yakima*

Washington: Seattle

Washington: Tacoma

West Virginia: West Central*

West Virginia: Huntington

West Virginia: McDowell*

Wisconsin: Milwaukee

* Denotes rural designee.

[FR Doc. 00-19198 Filed 7-28-00; 8:45 am]

BILLING CODE 4001-01-P